NUCLEAR REGULATORY COMMISSION

[Docket No. NRC-2012-0172]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on August 14, 2012 (77 FR 48555).

1. Type of submission, new, revision, or extension: Extension.

2. The title of the information collection: NRC Form 748, “National Source Tracking Transaction Report.”

3. Current OMB approval number: 3150-0202.

4. The form number if applicable: NRC Form 748.

5. How often the collection is required: On occasion (at completion of a transaction, and at inventory reconciliation).

6. Who will be required or asked to report: Licensees that manufacture, receive, transfer, disassemble, or dispose of nationally tracked sources.

7. An estimate of the number of annual responses: 13,523.

8. The estimated number of annual respondents: 1,400 (260 NRC Licensees + 1,140 Agreement State Licensees).

9. An estimate of the total number of hours needed annually to complete the requirement or request: 1,601.5 hours.

10. Abstract: In 2006, the NRC amended its regulations to implement a National Source Tracking System (NSTS) for certain sealed sources. The amendments require licensees to report certain transactions involving nationally tracked sources to the NSTS. These transactions include manufacture, transfer, receipt, disassembly, or disposal of the nationally tracked source. This information collection is mandatory and is used to populate the NSTS.

The public may examine and have copied for a fee, publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by December 20, 2012. Comments received after this date will be considered if it is practical to do so, but assurance of consideration cannot be given to comments received after this date.

Chad Whiteman, Desk Officer, Office of Information and Regulatory Affairs (3150-0202), NEOB-10202, Office of Management and Budget, Washington, DC 20503.

Comments can also be emailed to Chad_S_Whiteman@omb.eop.gov, or submitted by telephone at 202-395-4718.

The NRC Clearance Officer is Tremaine Donnell, 301-415-6258.

Dated at Rockville, Maryland, this 14th day of November, 2012.
For the Nuclear Regulatory Commission.
Tremaine Donnell,
NRC Clearance Officer, Office of Information Services.

[FR Doc. 2012-28189 Filed 11-19-12; 8:45 am]

BILLING CODE 7590-01-P